DEPARTMENT OF THE INTERIOR

Bureau of Land Management

[MT-021-1430-EQ; MTM-74913]

Notice of Realty Action; Noncompetitive Lease in Big Horn County, MT

AGENCY: Bureau of Land Management, Miles City Field Office, Interior.

ACTION: Notice.

SUMMARY: The following described land has been examined and identified as suitable for leasing under section 302 of the Federal Land Policy and Management Act (43 U.S.C. 1732) at not less than fair market value:

Principal Meridian

Big Horn County

T. 8 S., R. 39 E.,

Sec. 23, S½S½SW¼NW¼.

Containing 10.00 acres.

DATES: Interested parties may submit comments on or before July 31, 2003.

ADDRESSES: Written comments should be sent to Miles City Field Office, Bureau of Land Management, 111 Garryowen Road, Miles City, Montana 59301. Any adverse comments will be evaluated by the BLM Montana State Director, who may sustain, vacate or modify this realty action. In the absence of any objections, this realty action will become the final determination of the Bureau.

FOR FURTHER INFORMATION CONTACT: Pam Wall, Miles City Field Office, Miles City, Montana 59301, telephone 406-233-2846.

SUPPLEMENTARY INFORMATION: The purpose of this proposed lease is to authorize the use of public land for topsoil stripping, removal of overburden, highwall crest, catch bench, and dragline sidebench to provide maximum coal recovery from Spring Creek Coal Company's coal lease MTM-069782. The catch bench and dragline sidebench will serve multiple purposes, which include but are not limited to, drainage ditches, light vehicle access, and haul truck haulage. The total disturbed area would be approximately 3.5 acres. The subject land would be offered noncompetitively to Spring Creek Coal Company as an amendment to their existing Land Use Lease MTM-74913 for stockpiling of topsoil and overburden, construction of a haul road, and for drainage control, as the land is adjacent to the Spring Creek coal mine operation. The proposed lease amendment will provide authorized surface use of the public land. The lease amendment will be subject to the terms and conditions of the existing lease.

The application will be accepted for this lease amendment at the address listed above at the end of the 45 day comment period for this notice. The application will be subject to reimbursement of costs in accordance with the provisions of 43 CFR 2920.6. The land will be leased at fair market value as determined by appraisal. The application must include a reference to this notice and a complete description of the proposed project.

Public Comment Procedures: Please submit your comments on issues related to the proposed action, in writing, according to the ADDRESSES section above. Comments on the proposed action should be specific, should be confined to issues pertinent to the proposed action, and should explain the reason for any recommended change. Where possible, your comments should reference the specific section or paragraph of the proposal that you are addressing. BLM may not necessarily consider or include in the Administrative Record comments that BLM receives after the close of the comment period (see DATES) or comments delivered to an address other than those listed above (see ADDRESSES).

BLM will make your comments, including your name and address, available for public review at the Miles City Field Office address listed in ADDRESSES above during regular business hours (8 a.m. to 4:30 p.m., Monday through Friday, except Federal holidays).

Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

Dated: April 28, 2003.
David McIlnay,
Field Office Manager.

[FR Doc. 03-15052 Filed 6-13-03; 8:45 am]

BILLING CODE 4310-$$-P